DEPARTMENT OF ENERGY

Federal Energy Regulatory Commission

Combined Notice of Filings #1

October 24, 2008.

Take notice that the Commission received the following electric corporate filings:

Docket Numbers: EC09-11-000.

Applicants: Power Holdings, LLC, Tieton Hydropower, LLC.

Description: Power Holdings, LLC & Tieton Hydropower, LLC's application for order authorizing disposition of jurisdictional facilities under Section 203 of the Federal Power Act etc.

Filed Date: 10/24/2008.

Accession Number: 20081024-0127.

Comment Date: 5 p.m. Eastern Time on Friday, November 7, 2008.

Take notice that the Commission received the following electric rate filings:

Docket Numbers: ER97-3359-012.

Applicants: Florida Power & Light Company.

Description: Florida Power & Light Co.'s Notification of Non-Material Changes in Status.

Filed Date: 10/22/2008.

Accession Number: 20081022-5081.

Comment Date: 5 p.m. Eastern Time on Wednesday, November 12, 2008.

Docket Numbers: ER05-737-002.

Applicants: Commerce Energy Inc.

Description: Commerce Energy submits supplemental filing to earlier filed Market Power Analysis, request for treatment as Category 1 and Tariff Revision Filing, as required by order 697 and 697-A.

Filed Date: 10/22/2008.

Accession Number: 20081023-0308.

Comment Date: 5 p.m. Eastern Time on Wednesday, November 12, 2008.

Docket Numbers: ER09-89-001.

Applicants: Southwest Power Pool, Inc.

Description: Southwest Power Pool, Inc submits a clean copy of the relevant tariff sheets as Exhibit I with redlined copies showing the adjustments as Exhibit II to their original 10/17/08 filing of revised pages to the OATT.

Filed Date: 10/22/2008.

Accession Number: 20081024-0008.

Comment Date: 5 p.m. Eastern Time on Wednesday, November 12, 2008.

Docket Numbers: ER08-980-001.

Applicants: Alliant Energy Corporate Services, Inc.

Description: Interstate Power and Light Company submits a further amended Agreement that includes a complete copy of IPL's current RES-5 rate schedule as changes to the Agreement have been made.

Filed Date: 10/22/2008.

Accession Number: 20081023-0309.

Comment Date: 5 p.m. Eastern Time on Wednesday, November 12, 2008.

Docket Numbers: ER08-1257-001.

Applicants: Midwest Independent Transmission System.

Description: Midwest Independent Transmission System Operator, Inc submits an amendment to its 7/11/08 filing that proposed various revisions to its Open Access Transmission Energy and Operating Reserve Markets Tariff.

Filed Date: 10/21/2008.

Accession Number: 20081023-0110.

Comment Date: 5 p.m. Eastern Time on Wednesday, November 12, 2008.

Docket Numbers: ER09-107-000.

Applicants: Koda Energy LLC.

Description: Petition of KODA Energy, LLC for Order Accepting Market-Based Rate Tariff for Filing and Granting Waivers and Blanket Approvals and Request for Expedited Action.

Filed Date: 10/21/2008.

Accession Number: 20081023-0108.

Comment Date: 5 p.m. Eastern Time on Wednesday, November 12, 2008.

Docket Numbers: ER09-108-000.

Applicants: Midwest Independent Transmission System, Great River Energy.

Description: Midwest Independent Transmission System Operator Corporation et al. submit revised tariff sheets with proposed revisions to Attachment O re Open Access Transmission and Energy Market Tariff et al.

Filed Date: 10/21/2008.

Accession Number: 20081023-0107.

Comment Date: 5 p.m. Eastern Time on Wednesday, November 12, 2008.

Docket Numbers: ER09-112-000.

Applicants: Midwest Independent Transmission System.

Description: Midwest Independent Transmission System Operator, Inc submits an Amended and Restated Interconnection and Operating Agreement among Wisconsin Electric Power Company, etc.

Filed Date: 10/22/2008.

Accession Number: 20081023-0101.

Comment Date: 5 p.m. Eastern Time on Wednesday, November 12, 2008.

Docket Numbers: ER09-116-000.

Applicants: Idaho Power Company.

Description: Idaho Power Co submits revised depreciation accrual rates, Second Revised Sheet 129-A and 129-B to their OATT etc and Letter clarifying service of October 22, 2008 filing.

Filed Date: 10/22/2008; 10/23/2008.

Accession Number: 20081024-0042; 20081023-5089.

Comment Date: 5 p.m. Eastern Time on Wednesday, November 12, 2008.

Docket Numbers: ER09-117-000.

Applicants: Midwest Independent Transmission System Operator, Inc.

Description: Midwest Independent Transmission System Operator, Inc submits Large Generator Interconnection Agreement re Original Service Agreement 1983.

Filed Date: 10/23/2008.

Accession Number: 20081024-0006.

Comment Date: 5 p.m. Eastern Time on Thursday, November 13, 2008.

Docket Numbers: ER09-118-000.

Applicants: Midwest Independent Transmission System.

Description: Midwest Independent Transmission System Operator, Inc submits an Amended and Restated Large Generator Interconnection Agreement with American Transmission Company, LLC et al.

Filed Date: 10/23/2008.

Accession Number: 20081024-0005.

Comment Date: 5 p.m. Eastern Time on Thursday, November 13, 2008.

Docket Numbers: ER09-120-000.

Applicants: DUKE ENERGY CAROLINAS, LLC.

Description: Duke Energy Carolinas, LLC's CD containing report as part of its power purchase agreements with City of Concord, NC.

Filed Date: 10/23/2008.

Accession Number: 20081023-4004.

Comment Date: 5 p.m. Eastern Time on Thursday, November 13, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-25935 Filed 10-29-08; 8:45 am]

BILLING CODE 6717-01-P